Proclamation 10912 of April 3, 2025

National Donate Life Month, 2025

By the President of the United States of America

A Proclamation

Americans demonstrate their compassion in countless ways, perhaps none more selfless or vital than organ donations. More than 170 million people in the United States have made the decision to become donors, and for that, my Administration is grateful. During National Donate Life Month, we celebrate these heroes and the life-giving impact of their precious gift.

Last year alone, Americans saved and extended nearly 50,000 lives through organ donations and transplantations. Every life is precious, and each new donor can offer the gift of life to 8 souls while also enhancing the lives of 75 others who are battling chronic diseases, blindness, severe burns, and trauma.

There are more than 103,000 men, women, and children on the national transplant waiting list, clinging to hope and longing for a miracle. A new name is added every 8 minutes. Tragically, 17 people lose their lives each day while waiting for a transplant, highlighting the urgent need for more registered donors.

Anyone who is eligible, regardless of age or medical history, has the ability sign up to be an organ donor. To enroll, visit your State registry, the Department of Motor Vehicles, or www.organdonor.gov. The registration process is as simple as checking a box or registering online.

Throughout this month, we honor the selfless donors who generously give life to others and celebrate the beneficiaries who receive health and healing. The First Lady and I pray for all who await a transplant with anticipation and hope.

NOW, THEREFORE, I, DONALD J. TRUMP, President of the United States of America, by virtue of the authority vested in me by the Constitution and the laws of the United States, do hereby proclaim April 2025 as National Donate Life Month. I urge all Americans to consider becoming a donor and sharing this decision with family members and loved ones.

IN WITNESS WHEREOF, I have hereunto set my hand this third day of April, in the year of our Lord two thousand twenty-five, and of the Independence of the United States of America the two hundred and forty-ninth.

[FR Doc. 2025-06160

Filed 4-8-25; 8:45 am]

Billing code 3395-F4-P